DEPARTMENT OF ENERGY

Federal Energy Regulatory Commission

[Project No. 14482-000]

ECOsponsible, Inc.; Notice of Preliminary Permit Application Accepted for Filing and Soliciting Comments, Motions To Intervene, and Competing Applications

On January 18, 2013, ECOsponsible, Inc filed an application for a preliminary permit, pursuant to section 4(f) of the Federal Power Act (FPA), proposing to study the feasibility of the Little River Hydro Project (Little River Project or project) to be located on the Little River, near the Town of Clifton, in St. Lawrence County, New York. The sole purpose of a preliminary permit, if issued, is to grant the permit holder priority to file a license application during the permit term. A preliminary permit does not authorize the permit holder to perform any land-disturbing activities or otherwise enter upon lands or waters owned by others without the owners' express permission.

The proposed project would consist of the following: (1) An existing earth dam with a height of 44 feet and a length of 1,420 feet; (2) an existing reservoir with a drainage area of 37 square miles, a surface area of 215 acres, a normal storage capacity of 1,660 acre-feet, and a total storage capacity of 2,389 acre-feet; (3) an existing 48-inch-diameter outlet conduit; (4) a new horizontal axis “S” type propeller turbine with a rated capacity of 1,000 kilowatts; (5) a new 1,900-foot-long transmission line from the powerhouse to an existing 15-kilovolt grid connection point located adjacent to state Highway #3; (6) a new 9-foot by 9-foot metering substation; and (7) appurtenant facilities. The estimated annual generation of the Little River Project would be 7,446 megawatt-hours.

Applicant Contact: Mr. Dennis Ryan, Executive Director, ECOsponsible, Inc., 120 Mitchell Road Ste 100, Ease Aurora, New York 14052; phone: (716) 655-3524.

FERC Contact: Woohee Choi; phone: (202) 502-6336.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14482) in the docket number field to access the document. For assistance, contact FERC Online Support.

Dated: March 22, 2013.
Kimberly D. Bose,
Secretary.

[FR Doc. 2013-07300 Filed 3-28-13; 8:45 am]

BILLING CODE 6717-01-P